DEPARTMENT OF ENERGY

Federal Energy Regulatory Commission

[Docket No. RP04-28-000]

Tuscarora Gas Transmission Company; Notice of Tariff Filing

October 29, 2003.

Take notice that on October 22, 2003, Tuscarora Gas Transmission Company (Tuscarora) tendered for filing as part of its FERC Gas Tariff Original Volume No. 1, the revised tariff sheets listed on appendix A of the filing, to be effective November 21, 2003.

Tuscarora states that the purpose of this filing is to modify the Tuscarora tariff to: (1) Achieve consistency between the form of FT service agreement and the General Terms and Conditions with respect to the right of first refusal; (2) update certain contact and company information; (3) correct page and section references as well as references to the Commission's regulations; (4) delete certain provisions that are either outdated or are no longer applicable due to other previously modified provisions; and (5) make miscellaneous non-substantive housekeeping changes to various sections of the Tuscarora Tariff.

Tuscarora states that copies of the filing were mailed to all affected customers of Tuscarora and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00161 Filed 11-3-03; 8:45 am]

BILLING CODE 6717-01-P